ENVIRONMENTAL PROTECTION AGENCY

[FRL-8919-2]

Office of Research and Development; Ambient Air Monitoring Reference and Equivalent Methods: Designation of a New Equivalent Method

AGENCY: Environmental Protection Agency.

ACTION: Notice of the designation of a new equivalent method for monitoring ambient air quality.

SUMMARY: Notice is hereby given that the Environmental Protection Agency (EPA) has designated, in accordance with 40 CFR Part 53, a new equivalent method for measuring concentrations of PM10-2.5 in the ambient air.

FOR FURTHER INFORMATION CONTACT: Surender Kaushik, Human Exposure and Atmospheric Sciences Division (MD-D205-03), National Exposure Research Laboratory, U.S. EPA, Research Triangle Park, North Carolina 27711. Phone: (919) 541-5691, email: Kaushik.Surender@epa.gov.

SUPPLEMENTARY INFORMATION: In accordance with regulations at 40 CFR Part 53, the EPA evaluates various methods for monitoring the concentrations of those ambient air pollutants for which EPA has established National Ambient Air Quality Standards (NAAQSs) as set forth in 40 CFR Part 50. Monitoring methods that are determined to meet specific requirements for adequacy are designated by the EPA as either reference methods or equivalent methods (as applicable), thereby permitting their use under 40 CFR Part 58 by States and other agencies for determining compliance with the NAAQSs.

The EPA hereby announces the designation of a new equivalent method for measuring concentrations of PM10-2.5 in the ambient air. This designation is made under the provisions of 40 CFR part 53, as amended on October 17, 2006 (71 FR 61271).

The new PM10-2.5 equivalent method utilizes a pair of FEM samplers (EQPM-0308-170), one configured to measure PM2.5 and the other to measure PM10. This automated monitoring method utilizes a measurement principle based on sample collection by filtration and analysis by beta-ray attenuation. The newly designated equivalent method is identified as follows:

EQPM-0709-185, “Met One Instruments BAM-1020 PM10-2.5 Measurement System,” consisting of 2 BAM-1020 monitors, the first of which (PM2.5 measurement) is configured as a PM2.5 FEM (EQPM-0308-170). The second BAM-1020 monitor (PM10 measurement) is configurable as a PM2.5 FEM (EQPM-0308-170), but set to monitor PM10. The BAM-1020 monitors are collocated to within 1-4 meters of one another. The BAM-1020 performing the PM2.5 measurement is equipped with Met One Instruments, Inc. P/N BX-Coarse interface board and accessories; the units are interconnected to provide concurrent sampling and to report PM10-2.5 concentrations directly to the user. Both units are operated in accordance with BAM-1020 PM-Coarse Addendum Rev. 5-5 or later and the BAM-1020 Operations Manual Rev. D or later.

The application for equivalent method determination for this candidate method was received by the EPA on January 22, 2009. The monitor is commercially available from the applicant, Met One Instruments, Inc., 1600 Washington Blvd., Grants Pass, OR 97526.

Test analyzers representative of this method have been tested in accordance with the applicable test procedures specified in 40 CFR part 53 (as amended on October 17, 2006). After reviewing the results of those tests and other information submitted by the applicant in the application, EPA has determined, in accordance with part 53, that this method should be designated as an equivalent method. The information submitted by the applicant will be kept on file, either at EPA's National Exposure Research Laboratory, Research Triangle Park, North Carolina 27711 or in an approved archive storage facility, and will be available for inspection (with advance notice) to the extent consistent with 40 CFR Part 2 (EPA's regulations implementing the Freedom of Information Act).

As a designated equivalent method, this method is acceptable for use by states and other air monitoring agencies under the requirements of 40 CFR part 58, Ambient Air Quality Surveillance. For such purposes, this method must be used in strict accordance with the operation or instruction manual associated with the method and subject to any specifications and limitations (e.g., configuration or operational settings) specified in the applicable designated method description (see the identification of the method above).

Use of the method should also be in general accordance with the guidance and recommendations of applicable sections of the “Quality Assurance Handbook for Air Pollution Measurement Systems, Volume I,” EPA/600/R-94/038a and “Quality Assurance Handbook for Air Pollution Measurement Systems, Volume II, Ambient Air Quality Monitoring Program” EPA-454/B-08-003, December, 2008 (available at http://www.epa.gov/ttn/amtic/qabook.html). Vendor modifications of a designated equivalent method used for purposes of Part 58 are permitted only with prior approval of the EPA, as provided in part 53. Provisions concerning modification of such methods by users are specified under Section 2.8 (Modifications of Methods by Users) of Appendix C to 40 CFR Part 58.

In general, a method designation applies to any sampler or analyzer which is identical to the sampler or analyzer described in the application for designation. In some cases, similar samplers or analyzers manufactured prior to the designation may be upgraded or converted (e.g., by minor modification or by substitution of the approved operation or instruction manual) so as to be identical to the designated method and thus achieve designated status. The manufacturer should be consulted to determine the feasibility of such upgrading or conversion.

Part 53 requires that sellers of designated reference or equivalent method analyzers or samplers comply with certain conditions. These conditions are specified in 40 CFR 53.9.

Aside from occasional breakdowns or malfunctions, consistent or repeated noncompliance with any of these conditions should be reported to: Director, Human Exposure and Atmospheric Sciences Division (MD-E205-01), National Exposure Research Laboratory, U.S. Environmental Protection Agency, Research Triangle Park, North Carolina 27711.

Designation of this new equivalent method is intended to assist the States in establishing and operating their air quality surveillance systems under 40 CFR part 58. Questions concerning the commercial availability or technical aspects of the method should be directed to the applicant.

Jewel F. Morris,
Acting Director, National Exposure Research Laboratory.

[FR Doc. E9-14022 Filed 6-12-09; 8:45 am]

BILLING CODE 6560-50-P